DEPARTMENT OF AGRICULTURE

Office of the Secretary

Public Availability of FY 2018 Service Contract Inventory

AGENCY: Department of Agriculture, Office of the Secretary.

ACTION: Notice of public availability of FY 2018 Service Contract Inventories.

SUMMARY: In accordance with Section 743, Division C of the Consolidated Appropriations Act of 2010, the Department of Agriculture is publishing this notice to advise the public of access to the FY 2018 Service Contract Inventory.

FOR FURTHER INFORMATION CONTACT: Contact Crandall Watson, Office of Contracting & Procurement, at (202) 720-7529, or Crandall.Watson@usda.gov with questions, comments, or additional information request. Please cite 2018 Service Contract Inventory in all correspondence.

SUPPLEMENTARY INFORMATION: This inventory provides information on FY 2018 Service Contract actions with a dollar value above $150,000. The information is organized by function to show how contracted resources are distributed throughout the agency. The inventory was developed in accordance with guidance issued on September 7, 2018, by the Office of Management and Budget (OMB), Office of Federal Procurement Policy (OFPP). The Department of Agriculture has posted its inventory at the Office of Contracting and Procurement homepage. The 2018 inventory is accessible at the following link: https://www.dm.usda.gov/procurement/actdetails.htm.

Stephen L. Censky,
Deputy Secretary.

[FR Doc. 2020-23755 Filed 10-26-20; 8:45 am]

BILLING CODE 3410-TX-P